DEPARTMENT OF AGRICULTURE

Forest Service

Sucker Creek Channel and Floodplain Restoration Project (Phase II), Rogue River—Siskiyou National Forest, Josephine County, OR

AGENCY: Forest Service, USDA.

ACTION: Notice of intent to prepare an Environmental Impact Statement.

SUMMARY: The Forest Service will prepare an Environmental Impact Statement (EIS), to examine impacts connected with restoration of approximately a 0.5 mile section of Sucker Creek. The purpose for preparing this EIS is to analyze and disclose environmental consequences associated with a Proposed Action that includes a variety of restoration activities. Site-specific actions being proposed are designed to increase the quantity and improve the quality of fish habitat, reduce stream temperature, and reduce excessive fine sediment inputs from the project reach.

The activities are proposed within a portion of the Sucker Creek watershed, located on private lands and lands administered by the Rogue River—Siskiyou National Forest, Wild Rivers Ranger District, Josephine County, Oregon.

This proposal will tier to and be designed under the Final Environmental Impact Statement for the Siskiyou National Forest Land and Resource Management Plan (LRMP, 1989), as amended by the Northwest Forest Plan (NWFP) (USDA Forest Service and USDI Bureau of Land Management 1994), which provides guidance for land management activities.

Although this is an action having “effects primarily of local concern (40 CFR 1506.6(3)),” the Forest Service is nonetheless publishing this notice in the Federal Register to make diligent effort at involving the public, agencies, organizations, Native American tribes and other interested parties in preparation of this EIS.

The Wild Rivers Ranger District invites written comments concerning the scope of the analysis in addition to those comments that will be solicited as a result of local public participation activities. The Forest Service will also give notice of the full environmental analysis and decision making process so that interested and affected people are made aware as to how they may participate and contribute to the final decision.

DATES: Issues and comments concerning the scope and analysis of this proposal must be received within 30 days following publication of this notice in the Federal Register.

ADDRESSES: Submit written comments regarding this proposal to Liz Berger, Interdisciplinary Team Leader, care of USDA Forest Service, Medford Interagency Office, 3040 Biddle Road, Medford, Oregon 97504; FAX (541) 618-2149 or electronically to eaberger@fs.fed.us.

FOR FURTHER INFORMATION CONTACT: For technical information or questions about this proposal, contact Liz Berger, Interdisciplinary Team Leader, Rogue River—Siskiyou National Forest, phone: (541) 618-2051, FAX: (541) 618-2149, or e-mail: eaberger@fs.fed.us.

SUPPLEMENTARY INFORMATION: The legal description of the area being considered is T. 39 S., R. 6 W, in section 31 and T. 39 S., R. 7 W., in section 36; W.M., Josephine County, Oregon.

Purpose and Need for Action

The purpose of the Sucker Creek Channel and Floodplain Restoration—Phase II project is to improve fish habitat and water quality in the upper Sucker Creek Watershed. The specific restoration goals associated with the Purpose and Need for this project are to:

• Increase habitat quantity and improve habitat quality for coho salmon (listed as a threatened species under the Endangered Species Act), Chinook salmon, steelhead, and Pacific lamprey,

• Reduce stream temperature, and

• Reduce excessive fine sediment inputs from the project reach.

Restoration actions are needed to address impacts to fish habitat and water quality associated with past land management activities. The Sucker Creek project reach (Sucker Creek) has changed over time due to the effects of hydraulic and placer mining activities, timber harvest, and roads. Sucker Creek has been straightened and realigned. Existing stream morphology measurements show the channel is a Rosgen F channel type which is characteristic of an entrenched and incised system. Historic aerial photos and topographic surveys examining past channel geometry show that the stream channel was more sinuous and contained a larger floodplain, characteristic of a Rosgen C channel type. Mine tailing piles confine the channel and channel instability has caused excessive erosion and steep cutbanks. Additional disturbance responses are present, including increased channel width and lack of channel depth, loss of pool habitat, loss of side channel habitat, increased channel migration, and loss of channel structure and habitat. There is a lack of large wood and the quantity is well below benchmark levels of 80 pieces per mile.

Stream temperatures are high and exceed Oregon Department of Environmental Quality (ODEQ) standards. Sucker Creek was listed for stream temperature (1994/1996 303(d) list) by ODEQ, the Total Maximum Daily Load (TMDL) was adopted, and the Water Quality Management Plan (WQMP) is being implemented. High stream temperatures are from multiple sources, including loss of stream shading and a widened channel that lacks depth.

There is a need to improve fish habitat and water quality in Sucker Creek by reconstructing portions of the channel, placing large wood structures in the stream channel and floodplain, and riparian planting.

Proposed Action

The proposed action for this project will implement restoration activities in a 0.5 mile section of Sucker Creek, including reconstruction of portions of the stream channel, placement of large wood structures in the stream channel and floodplain, and establishment of a riparian gallery forest. Further detail on the proposed restoration actions is as follows:

• Reconstruct portions of the mainstem channel—Portions of the mainstem channel will be reconstructed to create the pattern, dimension, and profile appropriate for this stream type and valley type. This includes building bankfull benches or structures designed to restore floodplain connectivity and constructing new sections of stream channel. Stream meanders will be constructed, including pools, riffles, runs, and glides appropriate for this system. Banks will be stabilized, as needed. In addition, off-channel habitat features, such as alcoves, will be constructed. The existing channel will be plugged at reconstructed channel connection points using a combination of large wood, sediment comprised of fines, gravels, and cobbles, and slash material. The channel would be constructed using an excavator(s) and dozer.

• Placement of large wood structures—Structures will be used to: Reduce accelerated streambank erosion; provide grade control; enhance fish habitat (holding and rearing cover, spawning habitat, increase spatial habitat diversity); reintroduce and stabilize large wood for fisheries and stream channel stability; transport sediment; and provide energy dissipation. Approximately 160 large wood pieces will be placed using ground-based placement methods with excavators and other heavy equipment. Approximately 15 structures will be constructed on the mainstem portion of Sucker Creek. For these structures, key pieces will be buried into the banks and existing near-bank large riparian trees will used to buttress the instream wood and create stability. Depending on site conditions, boulders may also be used to anchor the logs in place and tree tips may be buried from 4 to 6′. Each tree will be approximately 50′ in length with an approximate DBH ranging from 16 to 36″. About 50% or more of the trees used will have intact rootwads. All key wood pieces will be Port-Orford-cedar, incense cedar, or Douglas-fir. Large wood structures will be placed with an excavator.

• Establishment of a riparian gallery forest—Approximately four acres along the mainstem channel riparian area and floodplain will be planted with a mixture of native conifer, hardwood, and shrub species. Disease-resistant Port-Orford-cedar will be included in the mix of native conifers planted.

Raw materials for the project, such as large wood, boulders, and gravels, will be obtained from Forest Service-managed land within or near the project area or from commercial sources. Trees are expected to come from Forest Service-managed lands within the Sucker Creek Watershed or from commercial sources. A team comprised of a forester, Port-Orford-cedar program manager, and a hydrologist and/or fisheries biologist will identify trees for the project. Depending on tree heights, one tree may produce up to two large wood pieces for the project. Identified trees and locations will be reviewed and analyzed by the interdisciplinary team to determine acceptable trees and sites for project materials.

The project proposes to significantly increase coho salmon spawning and rearing habitat by restoring a self-maintaining stable meander pattern, creating pools, riffles, and glides, constructing large wood complexes, reconnecting floodplains, and planting a riparian gallery forest. The project will increase stream length and spawning and summer and winter rearing habitats. In addition, the project also proposes to decrease stream temperature by reducing stream width, increasing stream depth, and increasing stream shade through planting of conifers, hardwoods, and shrubs. These restoration activities will also contribute to reducing excessive fine sediment inputs. Project work will follow Oregon Department of Fish and Wildlife instream work guidelines.

Alternatives

Alternatives to the Proposed Action will include No-Action as required by NEPA. Additional alternatives may also be considered.

This notice of intent initiates the scoping process under NEPA, which will guide the development of the draft EIS. The draft EIS is expected to be filed with the Environmental Protection Agency (EPA) and to be available for public comment by May 2010. The comment period for the draft EIS will be 45 days from the date EPA publishes the Notice of Availability in the Federal Register.

At the end of this period, comments submitted to the Forest Service, including names and addresses of those who responded, will be considered part of the public record for this proposal, and as such will be available for public review. Comments submitted anonymously will be accepted and considered; however, those who submit anonymous comments will not have standing to the Objection Process the under 36 CFR Part 218.

Additionally, pursuant to 7 CFR 1.27(d), any person may request the agency to withhold a submission from the public record by showing how the Freedom of Information Act (FOIA) permits such confidentiality. Persons requesting such confidentiality should be aware that, under the FOIA, confidentiality may be granted in only very limited circumstances, such as to protect trade secrets. The Forest Service will inform the requester of the agency's decision regarding the request for confidentiality, and where the request is denied, the agency will return the submission and notify the requester that the comments may be resubmitted with or without name and address within a specified number of days.

The Forest Service believes, at this early stage, it is important to give reviewers notice of several court rulings related to public participation in the environmental review process. First, reviewers of draft EISs must structure their participation in the environmental review of the proposal so that it is meaningful and alerts an agency to the reviewer's position and contentions. Vermont Yankee Nuclear Power Corp. v. NRDC, 435 U.S. 519, 533 (1978). Also, environmental objections that could be raised at the draft EIS stage, but that are not raised until completion of the final EIS, may be waived or dismissed by the courts. City Angoon v. Hodel, 803 F. 2d 1016, 1022 (9th Cir, 1986) and Wisconsin Heritages, Inc. v. Harris, 490 F. Supp. 1334, 1338 (E.D. Wis. 1980). Because of these court rulings, it is important that those interested in this proposed action participate by the close of the comment period so substantive comments and objections are made available to the Forest Service at a time when it can meaningfully consider them and respond to them in the final environmental impact statement.

To assist the Forest Service in identifying and considering issues and concerns on the proposed action, comments on the draft EIS should be as specific as possible. It is also helpful if comments refer to specific pages or chapters of the draft EIS. Comments may also address the adequacy of the draft EIS or the merits of the alternatives formulated and discussed in the statement. Reviewers may wish to refer to the Council on Environmental Quality Regulations for implementing the procedural provisions of the National Environmental Policy Act at 40 CFR 1503.3 in addressing these points.

Comments on the draft EIS will be analyzed, considered, and responded to by the Forest Service in preparing the final EIS. The final EIS is scheduled to be completed in summer of 2010.

The Forest Service Responsible Official is Joel King, District Ranger of the Wild Rivers Ranger District, Rogue River—Siskiyou National Forest. The Responsible Official will consider the Final EIS, applicable laws, regulations, policies, and analysis files in making a decision. The Responsible Official will document the decision and rationale in the Record of Decision.

January 21, 2010.
Joel King,
District Ranger.

[FR Doc. 2010-1952 Filed 2-1-10; 8:45 am]

BILLING CODE 3410-11-M